DEPARTMENT OF TRANSPORTATION

Federal Highway Administration

Notice of Intent, Project Cancellation, California Forest Highway 224, Bautista Canyon Road, Riverside County, CA

AGENCY: Department of Transportation, Federal Highway Administration (FHWA).

ACTION: Notice of intent, project cancellation.

SUMMARY: On August 20, 2004, the Federal Highway Administration (FHWA), Central Federal Lands Highway Division, and the County of Riverside published a notice of availability of a Draft Environmental Impact Statement/Environmental Impact Report (EIS/EIR) for the proposed reconstruction of an 8.2-mile segment of California Forest Highway 224, Bautista Canyon Road. Preliminary engineering and environmental work on the project has been funded through the County of Riverside and the Federal Lands Forest Highway Program, which is jointly administered by the FHWA, the USDA Forest Service and the California Department of Transportation. Following public hearings on the Draft EIS/EIR, comments were received from the general public, the USDA Forest Service, the Environmental Protection Agency, and the Department of the Interior. On the basis of these comments, and upon further analysis of the project purpose and need, alternatives, and the cost to mitigate impacts to biological and cultural resources, the Forest Highway programming agencies and the County of Riverside have determined that the project is not viable. The project is being removed from the Federal Lands Highway Program of projects. All engineering and environmental studies have been sopped.

FOR FURTHER INFORMATION CONTACT: Mr. Stephen Hallisy, Environmental Protection Specialist, Federal Highway Administration, 12300 West Dakota Avenue, Lakewood, Colorado 80228, telephone 720 963-3685.

Dated: March 18, 2005.
Bernardo Bustamante,
Project Manager.

[FR Doc. 05-5952 Filed 3-24-05; 8:45 am]

BILLING CODE 4910-56-M